DEPARTMENT OF HOMELAND SECURITY

Coast Guard

33 CFR Part 165

[Docket No. USCG 2009-0327]

Safety Zone; Vallejo Fourth of July Fireworks, Vallejo, CA

AGENCY: Coast Guard, DHS.

ACTION: Notice of enforcement of regulation.

SUMMARY: The Coast Guard will enforce the Vallejo Fourth of July Fireworks Display safety zone for the city of Vallejo, from 8 p.m. through 10 p.m. on July 4, 2009, in the Mare Island Straight in position 38°5′46″ N, 122°15′54″ W (NAD83). This action is necessary to control vessel traffic and to ensure the safety of event participants and spectators. During the enforcement period, unauthorized persons or vessels are prohibited from entering into, transiting through, or anchoring in the safety zone, unless authorized by the Patrol Commander (PATCOM).

DATES: The regulations in 33 CFR 165.1191 will be enforced from 8 p.m. through 10 p.m. on July 4, 2009.

FOR FURTHER INFORMATION CONTACT: If you have questions on this notice, call or e-mail Lieutenant Junior Grade Simone Mausz, Sector San Francisco Waterways Safety Division, U.S. Coast Guard; telephone 415-399-7442, e-mail simone.mausz@uscg.mil.

SUPPLEMENTARY INFORMATION: The Coast Guard will enforce the safety zone for the annual Vallejo Fourth of July Fireworks in 33 CFR 165.1191 on July 4, 2009, from 8 p.m. through 10 p.m. The fireworks launch site is on the shore line of Mare Island in Vallejo, CA and will be launched from position 38°5′46″ N, 122°15′54″ W (NAD83).

Under the provisions of 33 CFR 165.1191, unauthorized persons or vessels are prohibited from entering into, transiting through, or anchoring in the safety zone during all applicable effective dates and times, unless authorized to do so by the PATCOM. Additionally, each person who receives notice of a lawful order or direction issued by an official patrol vessel shall obey the order of direction. The PATCOM is empowered to forbid and control the regulated area. The PATCOM shall be designated by the Commander, Coast Guard Sector San Francisco. The PATCOM may, upon request, allow the transit of commercial vessels through regulated areas when it is safe to do so.

This notice is issued under authority of 33 CFR 165.1191 and 5 U.S.C. 552(a). In addition to this notice in the Federal Register, the Coast Guard will provide the maritime community with extensive advance notification of this enforcement period via the Local Notice to Mariners.

If the Captain of the Port determines that the regulated area need not be enforced for the full duration stated in this notice, he or she may use a Broadcast Notice to Mariners to grant general permission to enter the regulated area.

Dated: May 1, 2009.
P.M. Gugg,
Captain, U.S. Coast Guard, Captain of the Port, Sector San Francisco.

[FR Doc. E9-11561 Filed 5-15-09; 8:45 am]

BILLING CODE 4910-15-P